DEPARTMENT OF COMMERCE

National Oceanic and Atmospheric Administration

[I.D. 071702D]

North Pacific Fishery Management Council; Public Meeting

AGENCY: National Marine Fisheries Service (NMFS), National Oceanic and Atmospheric Administration (NOAA), Commerce.

ACTION: Notice of committee meeting.

SUMMARY: The North Pacific Fishery Management Council’s (Council) Gulf of Alaska Working Group will meet in Anchorage.

DATES: The meeting will be held on August 21, 2002, from 9:30 a.m. until 5 p.m.

ADDRESSES: The meeting will be held at the Hawthorn Suites, Ltd., 1110 West 8th Avenue, Ballroom A, Anchorage, AK 99501.

Council address: North Pacific Fishery Management Council, 605 W. 4th Ave., Suite 306, Anchorage, AK 99501-2252.

FOR FURTHER INFORMATION CONTACT: Council Staff at 907-271-2809.

SUPPLEMENTARY INFORMATION: On Wednesday, August 21st, the committee will meet to review Council direction on groundfish management issues related to rationalizing the Gulf of Alaska groundfish fisheries, committee assignments, and requested data reports.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Gail Bendixen, 907-271-2809, at least 5 working days prior to the meeting date.

Dated: July 17, 2002.
Richard W. Surdi,
Acting Director, Office of Sustainable Fisheries, National Marine Fisheries Service.

[FR Doc. 02-18738 Filed 7-24-02; 8:45 am]

BILLING CODE 3510-22-S